DEPARTMENT OF JUSTICE

Drug Enforcement Administration

[Docket No. DEA-589]

Importer of Controlled Substances Application: PerkinElmer, Inc.

ACTION: Notice of application.

DATES: Registered bulk manufacturers of the affected basic classes, and applicants therefore, may file written comments on or objections to the issuance of the proposed registration on or before March 25, 2020. Such persons may also file a written request for a hearing on the application on or before March 25, 2020.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on January 13, 2020, PerkinElmer, Inc., 120 E Dedham Street, Boston, Massachusetts 02118-2852 applied to be registered as an importer of the following basic classes of controlled substances:

Controlled substance | Drug code | Schedule
Lysergic acid diethylamide | 7315 | I
Thebaine | 9333 | II

The company plans to import the listed controlled substances in bulk for manufacturing wherein the controlled substances will be labeled with a radioactive tracer compound and sold for research purposes to its customers. Thebaine (9333) will be used to manufacture the derivative Diprenorphine.

Dated: January 31, 2020.
William T. McDermott,
Assistant Administrator.

[FR Doc. 2020-03620 Filed 2-21-20; 8:45 am]

BILLING CODE 4410-09-P